NATIONAL SCIENCE FOUNDATION

Advisory Committee of International Science and Engineering; Notice of Meeting

In accordance with Federal Advisory Committee Act (Pub. L. 92-463, as amended), the National Science Foundation announces the following meeting:

Name: Advisory Committee for International Science and Engineering (#25104).

Date/Time: May 4, 2007; 3 p.m. to 5 p.m.

Place: National Science Foundation, 4201 Wilson Boulevard, Room 950, Arlington, Virginia.

Type of Meeting: Open (Teleconference).

Contact Person: Eduardo Feller, National Science Foundation, 4201 Wilson Boulevard, Arlington, VA 22230, (703) 292-8710.

If you are attending the meeting and need access to the NSF, please contact the individual listed above so your name may be added to the building access list.

Purpose of Meeting: To provide advice concerning the NSF programs in international science and engineering.

Agenda: Discussion of current programs, initiatives and future budget cycle.

Dated: April 10, 2007.
Susanne Bolton,
Committee Management Officer.

[FR Doc. E7-7011 Filed 4-12-07; 8:45 am]

BILLING CODE 7555-01-P